DEPARTMENT OF ENERGY

Senior Executive Service Performance Review Board

AGENCY: Department of Energy.

ACTION: Designation of Performance Review Board Chair.

SUMMARY: This notice provides the Performance Review Board Chair designee for the Department of Energy. This listing supersedes all previously published lists of Performance Review Board Chair.

DATES: This appointment is effective as of September 30, 2019.

Dennis M. Miotla

Signed in Washington, DC, on October 2, 2019.
Erin S. Moore,
Director, Office of Corporate Executive Management, Office of the Chief Human Capital Officer.

[FR Doc. 2019-22662 Filed 10-16-19; 8:45 am]

BILLING CODE 6450-01-P